DEPARTMENT OF COMMERCE

National Oceanic and Atmospheric Administration

RIN 0648-XU49

Fisheries of the Pacific Region

AGENCY: National Marine Fisheries Service (NMFS), National Oceanic and Atmospheric Administration (NOAA), Commerce.

ACTION: Notification of determination of an overfished condition.

SUMMARY: This action serves as a notice that NMFS, on behalf of the Secretary of Commerce (Secretary), has determined that in the Pacific Region, the petrale sole stock has been determined to be in an overfished condition. The Pacific Fishery Management Council is in the process of reviewing the overfished threshold for petrale sole; however, regardless of future changes, NMFS has determined that the stock is overfished at this time, based on the current status determination criteria. For stocks which NMFS determines to be in an overfished condition and provides notice to the applicable Council, the applicable Council must, within two years of such notification, prepare and implement an FMP amendment or proposed regulations to rebuild such stocks.

FOR FURTHER INFORMATION CONTACT: Mark Nelson, (301) 713-2341.

SUPPLEMENTARY INFORMATION: Pursuant to sections 304(e)(2) and (e)(7) of the Magnuson-Stevens Fishery Conservation and Management Act (Magnuson-Stevens Act), 16 U.S.C. 1854(e)(2), and implementing regulations at 50 CFR 600.310(e)(2), NMFS, on behalf of the Secretary, must notify the appropriate Council whenever it determines a stock or stock complex is overfished.

For a fishery determined to be in an overfished condition, NMFS requests that the appropriate Council take action to end overfishing in the fishery and to implement conservation and management measures to rebuild affected stocks. A Council receiving notification that a fishery is overfished must, within 2 years of notification, implement a rebuilding plan, through an FMP amendment, which ends overfishing immediately and provides for rebuilding the fishery in accordance with 16 U.S.C. 1854(e)(3)-(4) as implemented by 50 CFR 600.310(j)(2)(ii). When developing rebuilding plans Councils, in addition to rebuilding the fishery within the shortest time possible in accordance with 16 U.S.C. 1854(e)(4) and 50 CFR 600.310(j)(2)(ii), must ensure that such management actions address the requirements to establish a mechanism for specifying and actually specify annual catch limits (ACLs) and accountability measures (AMs) to prevent overfishing in accordance with 16 U.S.C. 1853(a)(15) and 50 CFR 600.310(j)(2)(i) for each affected stock or stock complex.

On February 9, 2010, NMFS notified the Pacific Fishery Management Council that the most recent stock assessment for petrale sole indicated that the biomass fell below the overfished threshold which triggered an overfished determination. The letter acknowledges that the Pacific Fishery Management Council is in the process of reviewing the overfished threshold for petrale sole. Regardless of future changes to the overfished threshold, based on the current status determination criteria, NMFS has determined the stock to be overfished at this time.

As noted above, within 2 years of notification that a fishery is overfished, the respective Council must adopt and implement a rebuilding plan, through a FMP amendment which immediately ends overfishing and provides for rebuilding of the overfished stock.

Dated: March 3, 2010.
Emily H. Menashes,
Acting Director, Office of Sustainable Fisheries, National Marine Fisheries Service.

[FR Doc. 2010-5154 Filed 3-9-10; 8:45 am]

BILLING CODE 3510-22-S